DEPARTMENT OF ENERGY

Office of Fossil Energy; Orders Granting, Amending, and Vacating Authority To Import and Export Natural Gas, Including Liquefied Natural Gas

AGENCY: Office of Fossil Energy, DOE.

ACTION: Notice of orders.

SUMMARY: The Office of Fossil Energy (FE) of the Department of Energy gives notice that during October 2003, it issued Orders granting, amending, and vacating authority to import and export natural gas, including liquefied natural gas. These Orders are summarized in the attached appendix and may be found on the FE Web site at http://www.fe.doe.gov (select gas regulation). They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on November 20, 2003.
Clifford P. Tomaszewski,
Manager, Natural Gas Regulation, Office of Natural Gas & Petroleum Import & Export Activities, Office of Fossil Energy.

Appendix—Orders Granting Import/Export Authorizations

[DOE/FE Authority]
Order No. | Date issued | Importer/Exporter FE docket No. | Import volume | Export volume | Comments
1854-A | 10-7-03 | Total Gas & Power North America, Inc. (Formerly TotalFinaElf Gas & Power North America, Inc.) 03-07-NG |  |  | Name Change.
1899 | 10-7-03 | Pacific Gas and Electric Company; 03-52-NG | 600 Bcf |  | Import natural gas from Canada, beginning on November 1, 2003, and extending through October 31, 2005.
1900 | 10-7-03 | Northeast Gas Markets LLC; 03-55-NG | 400 Bcf |  | Import and export a combined total of natural gas from and to Canada, beginning on November 1, 2003, and extending through October 31, 2005.
1901 | 10-7-03 | Avista Energy, Inc.; 03-54-NG | 269 Bcf |  | Import natural gas from Canada, beginning on November 1, 2003, and extending through October 31, 2005.
1902 | 10-8-03 | MASSPOWER; 03-56-NG | 20 Bcf |  | Import and export a combined total of natural gas from and to Canada, beginning on October 22, 2003, and extending through October 21, 2005.
1903 | 10-8-03 | FUSI LLC; 03-59-NG | 75 Bcf |  | Import and export a combined total of natural gas from and to Canada, beginning on October 8, 2003, and extending through October 7, 2005.
1828-A | 10-8-03 | Fortuna (U.S.) Inc. 02-80-NG |  |  | Vacate blanket import and export authority.
1904 | 10-9-03 | Energy Trust Marketing Ltd.; 03-58-NG | 3 Bcf |  | Import and export a combined total of natural gas from and to Canada, beginning on October 1, 2003, and extending through September 30, 2005.
1905 | 10-9-03 | Energetix, Inc.; 03-61-NG | 15 Bcf |  | Import natural gas from Canada, beginning on October 1, 2003, and extending through September 30, 2005.
1906 | 10-9-03 | Reef Ventures, L.P.; 03-62-NG | 400 Bcf |  | Import and export a combined total of natural gas from and to Mexico, beginning on November 1, 2003, and extending through October 31, 2005.
1907 | 10-23-03 | Wisconsin Public Service Corporation; 03-57-NG | 36.5 Bcf |  | Import natural gas from Canada, beginning on October 1, 2003, and extending through September 30, 2005.
1908 | 10-23-03 | Middleton Energy Management Ltd.; 03-63-NG | 100 Bcf |  | Import and export a combined total of natural gas from and to Canada, beginning on November 1, 2003, and extending through October 31, 2005.
1909 | 10-27-03 | American Crystal Sugar Company; 03-64-NG | 10.4 Bcf |  | Import and export a combined total of natural gas from and to Canada, beginning on November 1, 2003, and extending through October 31, 2005.
1910 | 10-27-03 | Dynegy Marketing and Trade; 03-65-NG | 600 Bcf | 330 Bcf | Import and export natural gas from and to Canada and Mexico, beginning on October 31, 2003, and extending through October 30, 2005.
1911 | 10-27-03 | Enbridge Gas Services (U.S.) Inc.; 03-66-NG | 400 Bcf |  | Import and export a combined total of natural gas from and to Canada, beginning on November 1, 2003, and extending through October 31, 2005.
1912 | 10-27-03 | Omimex Canada, Ltd.; 03-67-NG | 15 Bcf |  | Import and export a combined total of natural gas from and to Canada, beginning on December 1, 2003, and extending through November 30, 2005.
1913 | 10-27-03 | Yankee Gas Services Company; 03-68-NG | 3.5 Bcf |  | Import and export a combined total of natural gas from and to Canada, beginning on November 1, 2003, and extending through October 31, 2005.
1914 | 10-27-03 | Ontario Energy Savings Corp.; 03-70-NG | 200 Bcf |  | Import and export a combined total of natural gas from and to Canada, beginning on November 1, 2003, and extending through October 31, 2005.
1915 | 10-31-03 | Pittsfield Generating Company L.P.; 03-73-NG | 25.5 Bcf | 25.5 Bcf | Import and export natural gas from and to Canada, beginning on October 30, 2003, and extending through October 29, 2005.
1916 | 10-31-03 | Dominion Energy Clearinghouse Canada Partnership; 03-72-NG | 20 Bcf |  | Import natural gas from Canada, beginning on November 1, 2003, and extending through October 31, 2005.

[FR Doc. 03-31453 Filed 12-19-03; 8:45 am]

BILLING CODE 6450-01-P